DEPARTMENT OF HEALTH AND HUMAN SERVICES

National Institutes of Health

The Agricultural Health Study: A Prospective Cohort Study of Cancer and Other Disease Among Men and Women in Agriculture (NCI); Correction Notice

The Federal Register notice published on March 3, 2010 (75 FR 9902) announcing the proposed collection and comment request for the project titled, “The Agricultural Health Study: A Prospective Cohort Study of Cancer and Other Disease Among Men and Women in Agriculture (NCI)” was submitted with errors. The burden table did not take into account the time related to complete the Phase III CATI as well as several telephone calls to schedule appointments and to follow up with instructions regarding the biospecimens collection. The corrected annual reporting burden is as follows:

Table A.12-1—Estimates of Annual Burden Hours
Type of respondent | Instrument | Estimated annual number of respondents | Frequency of response | Average time per response minutes/hour | Annual burden hours
Private Applicators, Spouses, Commercial Applicators | Phase III Telephone Interview & Buccal Cell Scripts | 150 | 1 | 5/60 (0.083) | 12.50
Private Applicators, Spouses, Commercial Applicators | Phase III CATI | 150 | 1 | 35/60 (0.583) | 87.50
Private Applicators, Spouses, Commercial Applicators | Phase III Buccal Cell Reminder, Missing or Damaged Scripts | 150 | 1 | 5/60 (0.083) | 12.50
Private Applicators | BEEA CATI Screener | 960 | 1 | 20/60 (0.33) | 320.00
Private Applicators | BEEA Home Visit CAPI, Blood, & Urine x 1 | 310 | 1 | 20/60 (0.33) | 5.17
Private Applicators | BEEA Schedule Home Visit Script | 10 | 3 | 5/60 (0.33) | 2.50
Private Applicators | BEEA Home Visit CAPI, Blood, & Urine x 3 | 10 | 3 | ≤ 20/60 (0.33) | 10.00
Total |  | 1740 |  |  | 450.17

Dated: April 14, 2010.
Vivian Horovitch-Kelley,
NCI Project Clearance Liaison, National Institutes of Health.

[FR Doc. 2010-9098 Filed 4-19-10; 8:45 am]

BILLING CODE 4140-01-P